DEPARMENT OF VETERANS AFFAIRS

Advisory Committee on Gulf War Veterans; Notice of Meeting

The Department of Veterans Affairs (VA) gives notice under Public Law 92-463 (Federal Advisory Committee Act) that the Advisory Committee on Gulf War Veterans will hold a meeting on November 19-20, 2008. On November 19, the meeting will be in Room 2A104 at the VA Medical Center, 10 North Greene Street, Baltimore, MD, from 10 a.m. until 4:30 p.m. On November 20, the meeting will be at the St. Regis Hotel, 16th and K Streets, NW., Washington, DC, from 9 a.m. until 4:30 p.m. The meeting is open to the public.

The purpose of the Committee is to provide advice and recommendations to the Secretary of Veterans Affairs on issues that are unique to veterans who served in the Southwest Asia theater of operations during the 1990-1991 period of the Gulf War.

On November 19, the Committee will meet with the officials from the State of Maryland Office of Veterans Affairs to discuss veteran outreach. The Director of the Depleted Uranium Program at the Baltimore VA Medical Center will discuss VA's research in depleted uranium and how it relates to the health effects in Gulf War veterans. Additionally, the Committee will meet with a panel of Gulf War veterans who reside in the Baltimore area. Gulf War veterans living in the Baltimore area who served in the Southwest Asia theater of operations during 1990-1991 wishing to participate in the panel should contact Lelia Jackson at (202) 461-5758 or via e-mail at lelia.jackson@va.gov.

On November 20, a representative from the Research Advisory Committee on Gulf War Veterans' Illnesses will discuss its recently released report. Subject matter experts from the Veterans Health Administration will discuss Post Traumatic Stress Disorder and Military Sexual Trauma in women veterans, and research specifically related to veterans and family members of veterans who served in the Southwest Asia theater of operations of the Gulf War from 1990-1991.

Public comments will be received on November 19, from 1 p.m. until 1:30 p.m. and on November 20, from 11:15 a.m. until 11:45 a.m. Individuals wishing to speak must register not later than November 14 by contacting Ms. Jackson and by submitting 1-2 page summary of their comments for inclusion in the official record. Public comments will be limited to five minutes each. A sign-in sheet will be available each day. Members of the public may also submit written statements for the Committee's review to the Advisory Committee on Gulf War Veterans, Department of Veterans Affairs, 810 Vermont Ave., NW., Washington, DC 20420.

Interested parties may also listen in by teleconferencing into the meeting. The toll-free teleconference line will be open from 10 a.m. until 4:30 p.m. on November 19 and from 9 a.m. until 5 p.m. on November 20. To register for the teleconference, contact Ms. Jackson.

Any member of the public seeking additional information should contact Laura O'Shea, Designated Federal Officer, at (202) 461-5765.

Dated: October 21, 2008.
E. Philip Riggin,
Committee Management Officer.

[FR Doc. E8-25556 Filed 10-24-08; 8:45 am]

BILLING CODE 8320-01-P